DEPARTMENT OF AGRICULTURE

Forest Service

Trinity County Resource Advisory Committee

AGENCY: Forest Service, USDA.

ACTION: Notice of meeting.

SUMMARY: The Trinity County Resource Advisory Committee (RAC) will meet in Weaverville, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meeting is open to the public. The purpose of this meeting is to discuss monitoring of past RAC projects and if authorized, vote on recommendation of project proposals, the Secure Rural Schools one-year extension to the 2008-2011 RAC authorization, and recruitment of new RAC Committee members.

DATES: Meetings will be held Monday, August 20, 2012 at 6:30 p.m. and Monday September 10, 2012 at 6:30.

ADDRESSES: The meeting will be held at the Trinity County Office of Education, 201 Memorial Drive, Weaverville, California 96093. Written comments may be submitted as described under SUPPLEMENTARY INFORMATION.

FOR FURTHER INFORMATION CONTACT: Susan Erwin, RAC Coordinator, at (530) 226-2360 or (530) 623-1753 or serwin@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed For Further Information.

SUPPLEMENTARY INFORMATION: The following business will be conducted: RAC Title II Special Projects proposal recommendations, overview of one-year extension, and new RAC committee member recruitment. An agenda of the meeting is also available at http://www.fs.usda.gov/main/stnf/workingtogether/advisorycommittees. The meeting is open to the public. Anyone who would like to bring related matters to the attention of the committee may file written statements with the committee staff before or after the meeting. Opportunity for public input will be provided and individuals will have the opportunity to address the Trinity County Resource Advisory Committee. A summary of the meeting minutes will be posted at http://www.fs.usda.gov/main/stnf/workingtogether/advisorycommittees within 21 days of the meeting.

Dated: July 31, 2012.
Donna F. Harmon,
Designated Federal Official, Shasta-Trinity National Forest.

[FR Doc. 2012-19095 Filed 8-3-12; 8:45 am]

BILLING CODE 3410-11-P